ENVIRONMENTAL PROTECTION AGENCY

[FRL-6864-1]

Agency Information Collection Activities: Proposed Collection; Comment Request; Prevention of Significant Deterioration (PSD) and Nonattainment New Source Review (NSR) Programs

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Information Collection Request for Prevention of Significant Deterioration and Nonattainment New Source Review, EPA ICR Number 1230.10, OMB Control Number 2060-0003, expiration date September 30, 2000. Before submitting the ICR to OMB for review and approval, EPA is soliciting comments on specific aspects of the proposed information collection as described below.

DATES: Comments must be submitted on or before November 6, 2000.

ADDRESSES: Send all comments on this ICR to Ms. Pamela J. Smith, Information Transfer and Program Integration Division (MD-12), Office of Air Quality Planning and Standards, U.S. Environmental Protection Agency, Research Triangle Park, North Carolina 27711. Interested persons may obtain a copy of the ICR without charge by contacting Ms. Smith at (919) 541-0641 or E-mail “smith.pam@epa.gov” and refer to EPA ICR Number 1230.10.

FOR FURTHER INFORMATION CONTACT: Dennis Crumpler at (919) 541-0871 and E-mail “crumpler.dennis@epa.gov.”

SUPPLEMENTARY INFORMATION: Affected entities: Entities potentially affected by this action are those which must submit an application for a permit to construct a new source or to modify an existing source of air pollution, permitting agencies which review the permit applications, and members of the public who are due the opportunity to comment on permitting actions.

Title: Information Collection Request for 40 CFR parts 51 and 52 Prevention of Significant Deterioration and Nonattainment New Source Review, EPA ICR Number 1230.10, OMB Control Number 2060-0003, Expiration date September 30, 2000. This is a request for extension of a currently approved collection.

Abstract: Part C of the Clean Air Act (Act)—“Prevention of Significant Deterioration,” and Part D—“Plan Requirements for Nonattainment Areas,” require all States to adopt preconstruction review programs for new or modified stationary sources of air pollution. Implementing regulations for State adoption of these two NSR programs into a State Implementation Plan (SIP) are promulgated at 40 CFR 51.160 through 51.1666 and appendix S to part 51. Federal permitting regulations are promulgated at 40 CFR 52.21 for PSD areas that are not covered by a SIP program.

In order to receive a construction permit for a major new source or major modification, the applicant must conduct the necessary research, perform the appropriate analyses and prepare the permit application with documentation to demonstrate that their project meets all applicable statutory and regulatory NSR requirements. Specific activities and requirements are listed and described in the Supporting Statement for the ICR.

Permitting agencies, either State, local or Federal, review the permit application to affirm the proposed source or modification will comply with the Act and applicable regulations. The permitting Agency then provides for public review of the proposed project and issues the permit based on its consideration of all technical factors and public input. The EPA, more broadly, reviews a fraction of the total applications and audits the State and local programs for their effectiveness. Consequently, information prepared and submitted by the source is essential for the source to receive a permit, and for Federal, State and local environmental agencies to adequately review the permit application and thereby properly administer and manage the NSR programs.

To facilitate adequate public participation, information is submitted by sources as a part of their permit application and should generally be a matter of public record. See sections 165(a)(2) and 110(a)(2)(C), (D), and (F) of the Act. Notwithstanding, to the extent that the information required for the completeness of a permit is proprietary, confidential, or of a nature that it could impair the ability of the source to compete in the marketplace, that information is collected and handled according to EPA's policies set forth in title 40, chapter 1, part 2, subpart B—Confidentiality of Business Information (see 40 CFR part 2). See also section 114(c) of the Act.

An agency may not conduct or sponsor, and a person is not required to respond to, a collection of information unless it displays a currently valid OMB control number. The OMB control numbers for EPA's regulations are listed in 40 CFR Part 9 and 48 CFR Chapter 15. The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The annual public reporting and recordkeeping burden for this collection of information is broken down as follows:

Type of permit action | Major PSD | Major Part D | Minor
Number of sources | 300 | 100 | 56,500
Burden Hours per Response:
Industry | 839 | 577 | 40
Permitting Agencies | 272 | 109 | 30

Respondents/Affected Entities: Industrial plants, State and local permitting agencies.

Estimated Number of Respondents: (113,400).

Frequency of Response: (1 per respondent).

Estimated Total Annual Hour Burden: (4,155,950) hours.

Estimated Annualized Cost Burden: $(0).

The estimated total annual burden is adjusted downward by 559,310 hours and the actual change in burden is 0 but there is an adjustment of $28.870 million due to the downward adjustment of numbers of major source permits since the 1997 ICR approval. The adjustment is based on a more accurate assessment of the distribution of major PSD permits, major Part D permits and minor State NSR permits. The total number of respondents decreases by 1,420. The burden per type of permit remains unchanged. The 1997 ICR documentation with recalculated spreadsheets and explanation for the adjustment in burden can be found at website “http://www.epa.gov/ttn/nsr” under “What's New on NSR” or can be obtained by calling Pamela J. Smith at 919-541-0641 or E-mailing her at “smith.pam@epa.gov” for review and comment.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 16, 2000.
William T. Harnett,
Acting Director, Information Transfer and Program Integration Division.

[FR Doc. 00-22654 Filed 9-1-00; 8:45 am]

BILLING CODE 6560-50-P